DEPARTMENT OF HEALTH AND HUMAN SERVICES

Administration for Children and Families

[Program Announcement No. OCS-2003-03]

Request for Applications Under the Office of Community Services' Fiscal Year 2003 Consolidated Program Announcement

AGENCY: Office of Community Services, Administration for Children and Families, Department of Health and Human Services.

ACTION: Announcement of the availability of funds and request for competitive applications under the Office of Community Services' Consolidated Program Announcement for Fiscal Year (FY) 2003.

SUMMARY: The Administration for Children and Families (ACF), Office of Community Services (OCS) invites eligible entities to submit competitive grant applications for new grants for the following OCS programs:

1. Assets for Independence Demonstration Program, CFDA # 93-602

2. Community Economic Development Program, CFDA # 93-570

3. Community Food and Nutrition Program, CFDA # 93-571

4. Family Violence Prevention and Services Program—Discretionary Funds Program, CFDA # 93-592

5. Job Opportunities for Low-Income Individuals Program, CFDA # 93-593

6. Training, Technical Assistance and Capacity-Building Program, CFDA # 93-570

The entire Consolidated Program Announcement for FY 2003 will not be published in the Federal Register. Rather, OCS is publishing this Abbreviated Program Announcement in the Federal Register. Where applicable, this Abbreviated Program Announcement contains the following information for each of the above-listed programs: CFDA Number, Legislative Authority, Eligible Applicants, Availability of Funds, Eligible Activities, Project Period, Application Due Date, and Contact Information.

ADDRESSES: Prior to submitting an application, potential applicants must obtain a copy of the Application Kit, containing the entire program announcement, forms, and instructions. The Application Kit is accessible for reading or downloading on the OCS Web site at: http://www.acf.hhs.gov/programs/ocs/kits1.htm. Or, by writing, calling or e-mailing the: OCS Operations Center, 1815 North Fort Meyer Drive, Suite 300, Arlington, Virginia 22209, 1-800-281-9519 or, E-mail: OCS@lcgnet.com.

Application Dates: The closing time and date for receipt of applications is 4:30 p.m. (Eastern Time Zone) on (please refer to each program description for actual date). Mailed or hand carried applications received after 4:30 on the closing date will be classified as late. Mailed or hand carried applications shall be considered as meeting the announced deadline if they are received on or before the deadline time and date at The Office of Community Services Grant receipt point: OCS Operations Center, 1815 North Fort Meyer Drive, Suite 300, Arlington, Virginia 22209, 1-800-281-9519.

Acknowledgement of Receipt: All applicants will receive an acknowledgement notice with an assigned identification number. If an acknowledgement is not received within two weeks after the deadline date, please notify the OCS Operations Center by telephone at (703) 351-7676. Applicants are requested to supply a self-addressed mailing label with their application that can be attached to this acknowledgement notice. The identification number and the program priority area letter code must be referred to in all subsequent communications with OCS concerning the application. Applicants should also include an E-mail address and facsimile (FAX) number, if these resources are available to the applicant.

Program Information: The attached chart illustrates important program information for each grant program included in the OCS FY 2003 Consolidated Program Announcement.

Office of Community Services—FY 2003 Consolidated Program Announcement
Name of grant program | Application deadline date | Who may apply | Approximate new funds available (in millions) | Maximum grant award | Estimated No. of awards (gramts) | Maximum project period (months)
Assets for Independence CFDA # 93-602 | 8/11/03 | Non-Profit 501(c)(3) Orgs, CDFI's, Low-Income Credit Unions | $16 | $1,000,000 | 50 | 60
Community Economic Development Program CFDA # 93-570, Priority Areas: | 8/11/03 | Private Non-Profit Community Development Corporations | 14 |  |  |
Operational Projects |  |  |  | 700,000 | 9 | 36-60
Incremental Development |  |  |  | 700,000 | 15 | 36-60
Incremental Dev. (Native American) |  |  |  | 700,000 | 2 | 36-60
Developmental |  |  |  | 350,000 | 10 | 36-60
Planning Projects |  |  |  | 75,000 | 10 | 12
Administrative Management (AM) |  |  |  | 500,000 | 2 | 17
Training/Technical Assistance (UT) |  |  |  | 270,000 | 1 | 17
Community Food & Nutrition Program CFDA # 93-571 | 8/11/03 | Public/Private Non-Profit Organizations | 2.1 | 50,000 | 42 | 12
Family Violence and Prevention and Services Program—Discretionary Funds Program CFDA # 93-592, Priority Areas: | 8/11/03 | Non-Profit Organizations | 1.8 |  |  |
FV03-01 Resource & Employment |  |  |  | 365,000 | 2 | 24
FV03-02 Youth Dating Violence |  |  |  | 250,000 | 1 | 17
FV03-03-Dom. Violence Collab. |  |  |  | 100,000 | 9 | 17
Job Opportunities for Low-Income Individuals Program CFDA # 93-593 Priority Areas: | 8/11/03 | Non-Profit 501(c)(3) or 501(c)(4) Organizations | 4.5 | 500,000 | 9 | 36
Business Expansion
Self-Employment./Micro-Enterprise
New Business Ventures
Non-Traditional Projects
Training, Technical Assistance and Capacity-Building Program CFDA # 93-570, Priority Areas: | 8/11/03 | Eligibility Varies by Priority Area—Refer to Program Description in OCS FY 2003 Consolidated Program Announcement | 1.5 |  |  |
1.1 CAA Continuing Education |  |  |  | 65,000 | 1 | 12
1.2 Peer-to-Peer T/A |  |  |  | 40,000 | 3 | 12
1.3 Effective Self-Sufficiency |  |  |  | 5,000 | 25 | 12
1.4 Knowledge Transfer Collab. |  |  |  | 25,000 | 5 | 36
1.5 Outreach/Service to Diverse |  |  |  | 7,500 | 10 | 12
1.6 Asset Formation/Financial |  |  |  | 75,000 | 1 | 36
2.1 Community Building Knowledge |  |  |  | 25,000 | 5 | 36
2.2 Tech. Training and Career |  |  |  | 50,000 | 1 | 12
3.1 Volunteers for Service in |  |  |  | 25,000 | 5 | 12
3.2 Strengthening Participation |  |  |  | 20,000 | 4 | 12
4.1 State Organizational Patterns |  |  |  | 45,000 | 1 | 12
5.1 ROMA Implementation |  |  |  | 200,000 | 1 | 36
5.2 Improving Community Action |  |  |  | 80,000 | 1 | 12
6.1 Strengthening Role of Fathers |  |  |  | 40,000 | 3 | 12
6.2 Promoting Healthy Marriages |  |  |  | 40,000 | 3 | 12

Evaluation Criteria: The Evaluation Criteria that will be used to review and rank applications submitted under the OCS FY 2003 Consolidated Program Announcement varies between programs and also between priority areas within a specific grant program. Applicants are urged to review the Evaluation Criteria for the program/priority area that corresponds with their application (see http://www.acf.hhs.gov/programs/ocs/kits1.htm).

Applicable Federal Regulations: Attachment “P” in the OCS FY 2003 Consolidated Program Announcement indicates the regulations that apply to all applicants/grantees under the Office of Community Services' Discretionary Grant Programs. Applicants are urged to review and familiarize themselves with these regulations prior to submitting an application under this program announcement.

All of the above information is accessible for reading or downloading on the OCS Web site at: http://www.acf.hhs.gov/programs/ocs/kits1.htm.

Dated: July 3, 2003.
Clarence H. Carter,
Director, Office of Community Services.

[FR Doc. 03-17396 Filed 7-8-03; 8:45 am]

BILLING CODE 4184-01-P